FEDERAL COMMUNICATIONS COMMISSION

47 CFR Part 20

[WT Docket No. 17-228, FCC 18-167]

Revisions to Reporting Requirements Governing Hearing Aid-Compatible Handsets

AGENCY: Federal Communications Commission.

ACTION: Final rule; announcement of compliance dates.

SUMMARY: The Wireless Telecommunications Bureau (WTB or the Bureau) announces that the Office of Management and Budget (OMB) has approved the information-collection and recordkeeping requirements associated with the recently amended hearing aid compatibility provisions addressing wireless service provider record retention, website posting, and certification filing requirements and announces the date by which service providers must be in compliance with these provisions.

DATES: Effective August 1, 2019.

Compliance Dates: Compliance with 47 CFR 20.19(e), (h) and (i) is required as of September 3, 2019. The § 20.19(i) service provider certification filing requirement must be completed between the compliance date and no later than 30 days after the compliance date.

FOR FURTHER INFORMATION CONTACT: Susannah Larson, Wireless Telecommunications Bureau, at (202) 418-1883 or via email: susannah.larson@fcc.gov. For additional information concerning the Paperwork Reduction Act information collection requirements contact Cathy Williams at (202) 418-2918 or via email: cathy.williams@fcc.gov.

SUPPLEMENTARY INFORMATION: This document announces that OMB approved the information collection requirements in revised §§ 20.19(e), (h), and (i) on June 25, 2019. Revised § 20.19(e) addresses the reporting and certification requirements applicable to de minimis wireless service providers. Revised § 20.19(h) sets forth service provider website posting and record retention obligations and revised § 20.19(i) sets forth service provider annual certification requirements. The Commission adopted these revised rules in the following Report and Order Revisions to Reporting Requirements Governing Hearing Aid-Compatible Mobile Handsets, FCC 18-167, published at 83 FR 63098 on December 7, 2018 (Report and Order).

The Report and Order provides that the Bureau will publish a document in the Federal Register announcing compliance dates for revised §§ 20.19(e), (h), and (i) once OMB approval is obtained for the paperwork burden associated with these sections. Further, the Report and Order states that the Bureau will revise § 20.19(m) once OMB approval is obtained for §§ 20.19(e), (h), and (i) and a compliance date for these sections is established. Section 20.19(m) states that compliance with the paperwork obligations of §§ 20.19(e), (h), and (i) is not required until OMB approval is obtained and a compliance date is established. The other rule amendments that the Commission adopted in the Report and Order did not require OMB approval and compliance with those rule sections was required as of January 7, 2019. See Report and Order at 83 FR 63098 (Dec. 7, 2018).

With respect to §§ 20.19(e) and (h), service providers must be in compliance with these sections by the compliance date set out above, except to the extent that these sections reference the § 20.19(i) certification requirement. With respect to the § 20.19(i) certification requirement, service providers may begin filing their certifications on the compliance date announced above and must have their certifications filed with the Commission within 30 days of that date. Service providers will be using new electronic FCC Form 855 to make their certifications. The OMB approved instructions for how to fill out and file the electronic FCC Form 855 certification will be available on the hearing aid compatibility section of the FCC website starting on the compliance date listed above. We remind service providers that the initial certifications that they will be filing cover the 2018 reporting period (i.e., from January 2018 through December 2018). Certifications covering the 2019 reporting period will be due by January 15, 2020 and then by January 15 following each subsequent reporting period.

The OMB Control Number for the information collection requirements associated with §§ 20.19(e), (h), and (i) is 3060-0999. If you have any comments on the burden estimates listed below, or how the Commission can improve the collections and reduce any burdens caused thereby, please contact Cathy Williams, Federal Communications Commission, Room 1-C823, 445 12th Street SW, Washington, DC 20554. Please reference OMB Control Number 3060-0999 in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received final OMB approval on June 25, 2019, for the information collection requirements contained in the revisions to §§ 20.19(e), (h), and (i).

Under 5 CFR part 1320, an agency may not conduct or sponsor a collection of information unless it displays a current, valid OMB Control Number.

No person shall be subject to any penalty for failing to comply with a collection of information subject to the Paperwork Reduction Act that does not display a current, valid OMB Control Number. The OMB Control Number for this information collection is 3060-0999.

The foregoing notice is required by the Paperwork Reduction Act of 1995, Public Law 104-13, October 1, 1995, and 44 U.S.C. 3507.

The total annual reporting burdens and costs for the respondents are as follows:

OMB Control Number: 3060-0999.

OMB Approval Date: June 25, 2019.

OMB Expiration Date: June 30, 2022.

Title: Hearing Aid Compatibility Status Report and Section 20.19, Hearing Aid-Compatible Mobile Handsets (Hearing Aid Compatibility Act).

Form Number: FCC Form 655 and FCC Form 855.

Type of Review: Revision of a currently approved collection.

Respondents: Business or other for-profit entities.

Number of Respondents and Responses: 934 respondents; 934 responses.

Estimated Time per Response: 13.9710921 hours per response (average).

Frequency of Response: On occasion and annual reporting requirements, recordkeeping requirement and third-party disclosure requirement.

Obligation to Respond: Required to obtain or retain benefits. Statutory authority for this information collection is contained in 47 U.S.C. 154(i), 303(r), and 610.

Total Annual Burden: 13,049 hours.

Total Annual Cost: No cost.

Privacy Act Impact Assessment: No impact(s).

Nature and Extent of Confidentiality: Information requested in the reports and certifications may include confidential information. However, covered entities are allowed to request that such materials submitted to the Commission be withheld from public inspection.

Needs and Uses: In the Report and Order, the Commission revised the information that wireless service providers must post on their publicly accessible websites concerning the hearing aid compatibility of the handsets that they offer and required service providers to retain this information on their websites for a period of time for those handsets that a service provider stops offering. The Commission took these steps to improve the information that is available to consumers about the hearing aid compatibility of wireless handsets offered by service providers and to make sure that consumers have access to this information for handsets that they might be using but are no longer being offered by their service provider. Further, the Commission reduced regulatory burden by eliminating the requirement that service providers annually file electronic FCC Form 655 and replaced this requirement with an annual streamlined certification requirement to be completed using the Commission's new electronic FCC Form 855. Handset manufacturers, however, will continue to annually file electronic FCC Form 655. Electronic FCC Forms 655 and 855 are the principle means by which the Commission ensures that handset manufacturers and service providers are in compliance with the Commission's hearing aid compatibility provisions.

List of Subjects in 47 CFR Part 20

Communications common carriers, Communications equipment, Radio.

Federal Communications Commission.
Marlene Dortch,
Secretary.

Final Rules

For the reasons discussed in the preamble, the Federal Communications Commission amends 47 CFR part 20 as follows.

PART 20—COMMERCIAL MOBILE SERVICES

1. The authority citation for part 20 continues to read as follows.

Authority: 47 U.S.C. 151, 152(a) 154(i), 157, 160, 201, 214, 222, 251(e), 301, 302, 303, 303(b), 303(r), 307, 307(a), 309, 309(j)(3), 316, 316(a), 332, 610, 615, 615a, 615b, 615c, unless otherwise noted.

§ 20.19 [Amended]

2. Amend § 20.19 by removing paragraph (m).

[FR Doc. 2019-16386 Filed 7-31-19; 8:45 am]

BILLING CODE 6712-01-P